NATIONAL FOUNDATION ON THE ARTS AND THE HUMANITIES

National Endowment for the Humanities

Meeting of Humanities Panel

AGENCY: National Endowment for the Humanities; National Foundation on the Arts and the Humanities.

ACTION: Notice of meeting.

SUMMARY: The National Endowment for the Humanities (NEH) will hold thirty-four meetings, by videoconference, of the Humanities Panel, a federal advisory committee, during August 2023. The purpose of the meetings is for panel review, discussion, evaluation, and recommendation of applications for financial assistance under the National Foundation on the Arts and the Humanities Act of 1965.

DATES: See SUPPLEMENTARY INFORMATION for meeting dates. The meetings will open at 8:30 a.m. and will adjourn by 5 p.m. on the dates specified below.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. 10), notice is hereby given of the following meetings:

1. Date: August 1, 2023

This video meeting will discuss applications on the topic of COVID-19, for the Community and Cultural Resilience grant program, submitted to the Division of Preservation and Access.

2. Date: August 1, 2023

This video meeting will discuss applications on the topics of Religious Studies and American Studies, for the Fellowships grant program, submitted to the Division of Research Programs.

3. Date: August 1, 2023

This video meeting—the first of two on this date—will discuss applications for the Humanities Initiatives at Colleges and Universities grant program, submitted to the Division of Education Programs.

4. Date: August 1, 2023

This video meeting—the second of two on this date—will discuss applications for the Humanities Initiatives at Colleges and Universities grant program, submitted to the Division of Education Programs.

5. Date: August 2, 2023

This video meeting will discuss applications on the topics of Conservation and Collections Care, for the Research and Development grant program, submitted to the Division of Preservation and Access.

6. Date: August 2, 2023

This video meeting—the first of two on this date—will discuss applications for the Humanities Initiatives at Historically Black Colleges and Universities grant program, submitted to the Division of Education Programs.

7. Date: August 2, 2023

This video meeting—the second of two on this date—will discuss applications for the Humanities Initiatives at Historically Black Colleges and Universities grant program, submitted to the Division of Education Programs.

8. Date: August 2, 2023

This video meeting will discuss applications on the topics of Africa, Middle East, and Ancient World, for the Fellowships grant program, submitted to the Division of Research Programs.

9. Date: August 2, 2023

This video meeting will discuss applications on the topics of Art History and American Studies, for Fellowships grant program, submitted to the Division of Research Programs.

10. Date: August 3, 2023

This video meeting will discuss applications on the topic of Social Sciences, for the Fellowships grant program, submitted to the Division of Research Programs.

11. Date: August 3, 2023

This video meeting will discuss applications for the Humanities Initiatives at Hispanic-Serving Institutions grant program, submitted to the Division of Education Programs.

12. Date: August 3, 2023

This video meeting will discuss applications on the topics of Archives and Special Collections, for the Preservation and Access Education and Training grant program, submitted to the Division of Preservation and Access.

13. Date: August 3, 2023

This video meeting will discuss applications for the Humanities Initiatives at Community Colleges grant program, submitted to the Division of Education Programs.

14. Date: August 3, 2023

This video meeting will discuss applications on the topics of Latin America, Caribbean, American History, and Studies, for the Fellowships grant program, submitted to the Division of Research Programs.

15. Date: August 3, 2023

This video meeting will discuss applications on the topic of Philosophy, for the Fellowships grant program, submitted to the Division of Research Programs.

16. Date: August 4, 2023

This video meeting will discuss applications for the Humanities Initiatives at Hispanic-Serving Institutions grant program, submitted to the Division of Education Programs.

17. Date: August 7, 2023

This video meeting will discuss applications on the topic of Cultural Anthropology, for the Cultural and Community Resilience grant program, submitted to the Division of Preservation and Access.

18. Date: August 7, 2023

This video meeting will discuss applications for the Humanities Initiatives at Colleges and Universities grant program, submitted to the Division of Education Programs.

19. Date: August 8, 2023

This video meeting—the first of two on this date—will discuss applications for the Humanities Initiatives at Colleges and Universities grant program, submitted to the Division of Education Programs.

20. Date: August 8, 2023

This video meeting—the second of two on this date—will discuss applications for the Humanities Initiatives at Colleges and Universities grant program, submitted to the Division of Education Programs.

21. Date: August 8, 2023

This video meeting will discuss applications on the topic of Cultural Anthropology, for the Cultural and Community Resilience grant program, submitted to the Division of Preservation and Access.

22. Date: August 9, 2023

This video meeting will discuss applications on the topic of Climate Change, for the Cultural and Community Resilience grant program, submitted to the Division of Preservation and Access.

23. Date: August 9, 2023

This video meeting will discuss applications for the Humanities Initiatives at Hispanic-Serving Institutions grant program, submitted to the Division of Education Programs.

24. Date: August 10, 2023

This video meeting will discuss applications on the topic of Digital and Audiovisual Collections, for the Preservation and Access Education and Training grant program, submitted to the Division of Preservation and Access.

25. Date: August 10, 2023

This video meeting will discuss applications for the Humanities Initiatives at Colleges and Universities grant program, submitted to the Division of Education Programs.

26. Date: August 11, 2023

This video meeting will discuss applications for the Humanities Initiatives at Tribal Colleges and Universities grant program, submitted to the Division of Education Programs.

27. Date: August 24, 2023

This video meeting will discuss applications on the topics of Arts, Culture, and Media, for the Digital Humanities Advancement Grants program, submitted to the Office of Digital Humanities.

28. Date: August 25, 2023

This video meeting will discuss applications on the topic of Scholarly Communications, for the Digital Humanities Advancement Grants program, submitted to the Office of Digital Humanities.

29. Date: August 29, 2023

This video meeting will discuss applications on the topics of Teaching and Learning, for the Digital Humanities Advancement Grants program, submitted to the Office of Digital Humanities.

30. Date: August 29, 2023

This video meeting will discuss applications on the topic of Global Culture, for the Digital Projects for the Public: Production Grants program, submitted to the Division of Public Programs.

31. Date: August 30, 2023

This video meeting will discuss applications on the topic of U.S. History, for the Digital Projects for the Public: Production Grants program, submitted to the Division of Public Programs.

32. Date: August 30, 2023

This video meeting will discuss applications on the topic of Spatial Humanities, for the Digital Humanities Advancement Grants program, submitted to the Office of Digital Humanities.

33. Date: August 31, 2023

This video meeting will discuss applications on the topics of Collections and Access, for the Digital Humanities Advancement Grants program, submitted to the Office of Digital Humanities.

34. Date: August 31, 2023

This video meeting will discuss applications on the topics of Arts and Culture, for the Digital Projects for the Public: Production Grants program, submitted to the Division of Public Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chair's Delegation of Authority to Close Advisory Committee Meetings dated April 15, 2016.

Dated: July 17, 2023.
Jessica Graves,
Legal Administrative Specialist, National Endowment for the Humanities.

[FR Doc. 2023-15481 Filed 7-20-23; 8:45 am]

BILLING CODE 7536-01-P